DEPARTMENT OF ENERGY

National Nuclear Security Administration

Record of Decision for the Final Environmental Impact Statement for the Surplus Plutonium Disposition Program

AGENCY: National Nuclear Security Administration, Department of Energy.

ACTION: Record of decision.

SUMMARY: The National Nuclear Security Administration (NNSA), a semi-autonomous agency within the U.S. Department of Energy (DOE), is issuing this Record of Decision (ROD) for the Final Environmental Impact Statement (EIS) for the Surplus Plutonium Disposition Program (SPDP) (SPDP EIS) (DOE/EIS-0549). In this ROD, NNSA announces its decision to use the dilute and dispose strategy, rather than the Mixed Oxide Fuel (MOX) Program, to permanently dispose of 34 metric tons (MT) of plutonium surplus to the defense needs of the Nation (surplus defense-related plutonium). NNSA will implement the Base Approach Sub-alternative of the Preferred Alternative as described and analyzed in the SPDP EIS.

FOR FURTHER INFORMATION CONTACT: For further information on this ROD or the SPDP EIS, contact: Ms. Maxcine Maxted, National Environmental Policy Act (NEPA) Document Manager, National Nuclear Security Administration, Office of Material Management and Minimization, P.O. Box A, Bldg. 730-2B, Rm. 328, Aiken, SC 29802; via email at SPDP-EIS@nnsa.doe.gov; or by phone at (803) 952-7434. This ROD, the SPDP EIS, and related NEPA documents are available at www.energy.gov/nnsa/nnsa-nepa-reading-room.

SUPPLEMENTARY INFORMATION: DOE is currently employing the dilute and dispose strategy to dispose of up to 13.1 MT of surplus plutonium. Recently, NNSA announced a replanning effort to revisit the initiation of the Pit Disassembly and Processing (PDP) Project, a part of the SPDP, by approximately 10 years. Increased capacity for producing plutonium oxide, which NNSA evaluated as part of the Preferred Alternative in the SPDP EIS, will therefore be delayed. This decision will extend the timeline for the full 34 MT disposition mission. NNSA will continue to dismantle surplus pits and produce plutonium oxide at the Los Alamos National Laboratory (LANL) and remains fully committed to dispositioning 34 MT of surplus plutonium. The Surplus Plutonium Disposition line-item project execution at the Savannah River Site (SRS) will continue as described in the SPDP EIS, and NNSA will continue to dilute surplus plutonium and ship contact-handled transuranic waste to the Waste Isolation Pilot Plant (WIPP) for permanent disposal. This decision will allow NNSA to continue to remove surplus plutonium from South Carolina in alignment with the DOE-South Carolina Settlement Agreement.

Background

NNSA prepared the SPDP EIS pursuant to NEPA (title 42 U.S.C. 4321 et seq.), the Council on Environmental Quality's NEPA regulations (40 CFR parts 1500-1508), and the DOE NEPA implementing procedures (10 CFR part 1021). NNSA's previous NEPA reviews and decisions regarding the disposition of surplus plutonium are summarized in Section 1.1 of the SPDP EIS. The following paragraphs describe recent developments relevant to the scope of the SPDP EIS.

In 2015, NNSA completed the Surplus Plutonium Disposition Supplemental Environmental Impact Statement (SPD Supplemental EIS) (DOE/EIS-0283-S2). In the SPD Supplemental EIS, NNSA evaluated the environmental impacts of alternatives for dispositioning 13.1 MT of surplus plutonium (7.1 MT of pit plutonium and 6 MT of non-pit plutonium) for which a disposition path had not been assigned. The alternatives evaluated in the 2015 SPD Supplemental EIS included the MOX Fuel Alternative, the WIPP Alternative (the WIPP Alternative is equivalent to the dilute and dispose strategy, as used in the SPDP EIS), and two variations of waste immobilization. In addition, NNSA evaluated four options for pit disassembly and conversion (pit disassembly and conversion is equivalent to pit disassembly and processing as used in the SPDP EIS) using facilities at SRS and LANL. In a 2016 ROD, NNSA announced a decision to disposition the 6 MT of non-pit surplus plutonium by downblending it with an adulterant (downblending is a process equivalent to dilution in the dilute and dispose strategy as used in the SPDP EIS), packaging it as defense-related contact-handled transuranic (CH-TRU) waste, and shipping it to the WIPP facility for disposal (81 FR 19588). In this 2016 ROD, NNSA also decided to increase available downblend capability by continuing construction and initiating operation of the SPD Project at SRS. NNSA did not make a decision about the disposition of the 7.1 MT of pit plutonium or about the various options for pit disassembly and conversion that were analyzed in the 2015 SPD Supplemental EIS.

In May 2018, the Secretary of Energy halted the MOX Program by waiving the requirement to use funds for construction and support activities for the Mixed Oxide Fuel Fabrication Facility in accordance with the National Defense Authorization Act. In a letter dated May 10, 2018 to Congress, the Secretary of Energy certified that “the remaining lifecycle cost for the dilute and dispose strategy will be less than approximately half of the estimated remaining lifecycle cost of the MOX Program.” NNSA prepared this SPDP EIS to evaluate alternatives for disposition of the 34 MT of surplus plutonium previously designated for disposition using the MOX Program (Amended ROD 68 FR 20134, April 24, 2003) that no longer has a disposition path because the MOX Program has been cancelled.

In 2020, NNSA prepared a Supplement Analysis (SA) based on the analysis presented in the 2015 SPD Supplemental EIS. NNSA determined that disposition of 7.1 MT of non-pit surplus plutonium was not a substantial change in the action analyzed in the 2015 SPD Supplemental EIS to disposition 7.1 MT of pit plutonium via the WIPP Alternative, and that the environmental impacts had been sufficiently analyzed. NNSA subsequently issued an Amended ROD stating its decision to prepare an additional 7.1 MT of non-pit surplus plutonium for disposal as defense-related CH-TRU waste at the WIPP facility (85 FR 53350, August 28, 2020). In the same 2020 Amended ROD, NNSA also decided that non-pit metal processing (NPMP) may be performed at either LANL or SRS.

The 7.1 MT of non-pit surplus plutonium referred to in the 2020 Amended ROD is part of the 34 MT of surplus plutonium that NNSA had decided (Amended ROD 68 FR 20134, April 24, 2003) to disposition by fabricating it into MOX fuel for use in commercial reactors (i.e., the MOX Program). The disposition of that 34 MT is the subject of the SPDP EIS.

Alternatives Considered

In the SPDP EIS, NNSA analyzed the impact of two alternatives: the Preferred Alternative, consisting of four sub-alternatives, and the No Action Alternative. Both alternatives use the dilute and dispose strategy and both include up to 7.1 MT of non-pit surplus plutonium that NNSA previously decided to dispose of (85 FR 53350) using the dilute and dispose strategy. NNSA's Preferred Alternative is to use the dilute and dispose strategy for 34 MT of surplus plutonium comprised of both pit and non-pit plutonium. The No Action Alternative is continued management of the 34 MT of both pit and non-pit plutonium, including the disposition of up to 7.1 MT of non-pit plutonium using the dilute and dispose strategy based on the previous NNSA decision (85 FR 53350). The Preferred Alternative is the only alternative that meets NNSA's purpose and need to take action.

Preferred Alternative: NNSA's Preferred Alternative is to use the dilute and dispose strategy for disposal of 34 MT of surplus plutonium comprised of both pit and non-pit surplus plutonium. The exact amounts of pit and non-pit forms of plutonium that compose the 34 MT are classified. To bound the impacts, in the SPDP EIS NNSA evaluated the impacts of dispositioning 34 MT of surplus plutonium in pit form and the impacts of dispositioning 7.1 MT of non-pit surplus plutonium. However, the SPDP Program would disposition only up to 34 MT of surplus plutonium total, not 34 MT plus 7.1 MT. The activities that are part of the Preferred Alternative would occur at five DOE sites: the Pantex Plant (Pantex) in Texas, LANL in New Mexico, SRS in South Carolina, the Y-12 National Security Complex (Y-12) in Tennessee, and the WIPP facility in New Mexico. NNSA describes the steps and technologies involved in the Preferred Alternative in detail in Section 2.1 of the SPDP EIS. NNSA developed and evaluated the impacts of four sub-alternatives for the Preferred Alternative based on the location of processing activities.

The Base Approach Sub-Alternative involves shipping 34 MT of pit plutonium from Pantex to LANL and disassembling and processing (PDP) the 34 MT of pit plutonium to oxide, with subsequent shipment of the decontaminated and oxidized highly enriched uranium (HEU) to Y-12. The Base Approach Sub-Alternative also includes processing 7.1 MT of non-pit surplus plutonium using the same capability provided by PDP at LANL. This sub-alternative relies on expanding existing capabilities at LANL in the Plutonium Facility (PF-4) and modifying or building additional support facilities for PDP and NPMP. This expansion would allow NNSA to accelerate the dilute and dispose strategy compared to relying solely on existing facilities at LANL. The resulting plutonium oxide from the surplus pit and non-pit plutonium would be shipped to K-Area at SRS, where it would be blended with an adulterant and characterized and packaged (C&P) as CH-TRU waste for shipment to and disposal at the WIPP facility.

The SRS NPMP Sub-Alternative is similar to the Base Approach Sub-Alternative: NNSA would ship 34 MT of pit plutonium from Pantex to LANL where PDP would take place in PF-4. In the SRS NPMP Sub-Alternative, NNSA would ship the decontaminated and oxidized HEU to Y-12. PDP would be followed by shipment of the resulting plutonium oxide to SRS (K-Area). Unlike the Base Approach Sub-Alternative, NPMP would not take place at LANL. Instead of processing 7.1 MT of non-pit surplus plutonium would occur at SRS's K-Area either in Building 105-K or in a modular system adjacent to the building. Similar to the Base Approach Sub-Alternative, the SRS NPMP Sub-Alternative plutonium oxide would be blended with an adulterant and characterized and packaged as CH-TRU waste for shipment to and disposal at the WIPP facility.

For the All LANL Sub-Alternative, NNSA would use only capabilities at LANL for the entire disposition pathway. Like the Base Approach Sub-Alternative, under the All LANL Sub-Alternative NNSA would ship 34 MT of pit plutonium from Pantex to LANL for PDP in PF-4 with subsequent shipment of the decontaminated and oxidized HEU to Y-12. In the All LANL Sub-Alternative, processing 7.1 MT of non-pit surplus plutonium would occur at LANL in PF-4. Unlike the Base Approach Sub-Alternative, the resulting plutonium oxide would remain at LANL for dilution and C&P before shipment to and disposal at the WIPP facility as CH-TRU waste.

For the All SRS Sub-Alternative, NNSA would use only capabilities at SRS. NNSA would ship 34 MT of pit plutonium from Pantex to SRS. PDP would take place in a new capability installed at SRS in either K-Area or F-Area. NNSA would ship the decontaminated and oxidized HEU to Y-12. Processing 7.1 MT of non-pit surplus plutonium would use new capability provided by PDP. The resulting plutonium oxide would remain at SRS for dilution and C&P before shipment to and disposal at the WIPP facility as CH-TRU waste.

No Action Alternative: NNSA's No Action Alternative for dispositioning 34 MT of surplus plutonium is continued management of 34 MT of surplus plutonium. This includes (1) continued storage of pits at Pantex, (2) the continued plutonium mission at LANL to process up to 400 kg of actinides (including surplus plutonium) a year as announced in NNSA's 2008 LANL SWEIS ROD (73 FR 55833), and (3) disposition of up to 7.1 MT of non-pit surplus plutonium for which the disposition decision, using the dilute and dispose strategy, was announced in NNSA's 2020 Amended ROD (85 FR 53350). NNSA describes the steps and technologies involved in the No Action Alternative in detail in Section 2.1.2 of the SPDP EIS.

NPMP of up to 7.1 MT could be performed in the existing furnaces installed in gloveboxes at LANL's PF-4 or in a NPMP capability that would be built at Building 105-K in K-Area at SRS. If NPMP occurs at LANL, the resulting plutonium oxide would be shipped to SRS for dilution and C&P and subsequently shipped from K-Area to the WIPP facility for disposal as CH-TRU waste.

Environmentally Preferrable Alternative

The No Action Alternative, using only existing facilities at LANL and SRS, would require no new land disturbance or construction. In addition, the lesser quantity of plutonium that would be processed would result in fewer emissions and a smaller volume of CH-TRU waste for disposal at the WIPP facility. The No Action Alternative is therefore the environmental preferable alternative. However, the No Action Alternative does not meet NNSA's mission need.

Potential Environmental Impacts of Preferred Alternative

NNSA estimated the potential environmental impacts of the Preferred Alternative, the Sub-Alternatives, and the No Action Alternative on air quality, visual resources, human health, socioeconomics, waste management, transportation, environmental justice, land resources, geology and soils, water resources, noise, ecological resources, cultural resources, infrastructure, and the global commons. NNSA also evaluated the potential impacts of the irreversible and irretrievable commitment of resources, the short-term uses of the environment, and the maintenance and enhancement of long-term productivity. These analyses and results for the 34 MT of surplus plutonium are described in the Summary and Section 4 of the Final SPDP EIS. Table S-10 of the Final SPDP EIS Summary provides a summary of potential environmental impacts associated with each alternative as well as a means for comparing the potential impacts among alternatives and sub-Alternatives. A full discussion of the impacts for all resources is found in Section 4.0 of Volume 1. Appendix C in Volume 2 contains the detailed potential environmental impacts broken out by activity and site (LANL and SRS), as well as impacts across the sites under each of the alternatives and sub-alternatives. NNSA determined that the impacts of the Preferred Alternative at both LANL and SRS are minor to negligible for land use and visual resources, air quality, noise, geology and soils, water resources, human health (chemical use), and waste management. NNSA finds that impacts at both sites from radiological releases during normal operations and impacts on other resources are small and within the bounds of existing regulations.

DOE has authorized WIPP to use fiscal year (FY) 2050 as a planning assumption for a closure date for project management plans related to capital asset projects and other strategic planning initiatives. Therefore, for the purpose of estimating impacts, NNSA chose fiscal year (FY) 2050 as the date for completion of the 34 MT mission described in the SPDP EIS. NNSA estimated operational durations based on process throughputs that would result in mission completion in FY 2050. Because NNSA has decided to revisit the timing for initiation of the PDP, the 34 MT mission will not be completed by 2050. As a result, the annual impacts NNSA estimated in the SPDP EIS are greater than the impacts that will result from implementation of the Preferred Alternative without the PDP Project. The impact analysis of the Preferred Alternative assumed the PDP Project would be operational in approximately 2030. In addition, construction impacts, except for those associated with the SPD Project at SRS, will not occur until the PDP Project is initiated.

Public Involvement

On December 16, 2020, NNSA published a Notice of Intent (NOI) to prepare this SPDP EIS in the Federal Register (85 FR 81460) announcing a 45-day public scoping period ending February 1, 2021. NNSA extended the scoping period to February 18, 2021. The NOI also provided information regarding NNSA's overall NEPA strategy related to fulfilling the purpose and need to disposition 34 MT of surplus plutonium. Considering the public health concerns at the time, NNSA held virtual public scoping meetings on January 25 and 26, 2021, to discuss the SPDP EIS and to receive comments on the potential scope of the SPDP EIS. In addition to the scoping meetings, NNSA encouraged members of the public to provide comments via U.S. postal mail, email, or telephone. NNSA received 279 comment documents related to the project scope during the public scoping process. NNSA considered all comments received during the public scoping process including some received after the close of the comment period, when preparing the Draft SPDP EIS. A summary of the comments, including an indication of how NNSA addressed the comments, was published in the Draft SPDP EIS.

In accordance with NEPA regulations, the Draft SPDP EIS was provided to the public for comment on December 16, 2022, with publication of a Notice of Availability (NOA) in the Federal Register (87 FR 77096). Publication of the U.S. Environmental Protection Agency's NOA (87 FR 77106) on the same day started a 60-day public comment period that originally ran through February 14, 2023, and was extended 30 days until March 16, 2023, resulting from requests from the public. The Environmental Protection Agency announced the comment period extension in a February 10, 2023, Notice in the Federal Register. NNSA held in-person public hearings at locations near SRS, the WIPP facility, and LANL on January 19, 24, and 26, 2023, respectively, and a virtual public hearing on January 30, 2023, to present preliminary findings and to provide the public, governmental entities including Native American Tribes, and other stakeholders the opportunity to comment on the Draft SPDP EIS.

The NOA encouraged members of the public to provide comments on the Draft EIS. NNSA considered all comments carefully and equally. After considering the comments, NNSA revised the Draft SPDP EIS. The primary changes found in the Final SPDP EIS that resulted from public comments include clarification related to (1) pit and non-pit terminology and descriptions, (2) facility throughputs, (3) various plutonium disposition pathways NNSA had determined, and (4) assumptions used in technical calculations and analyses. In addition, NNSA included background information on plutonium and americium-241 in the Final SPDP EIS and updated radiological health information to address potential impacts to surrounding communities. NNSA provided responses to comments in Volume 3 of the Final SPDP EIS. Volume 3 includes a detailed description of the public comment process and copies of correspondence received on the Draft SPDP EIS. In addition to changes made in the Final SPDP EIS in response to public comments, NNSA also made changes to update the environmental baseline information, update analyses based on more recent information, correct inaccuracies, and to clarify text.

NNSA invited 24 Native American groups with ties to the land on or in the vicinity of the SRS and LANL sites to participate in Government-to-Government consultations and offered briefings on the Draft SPDP EIS. The initial meeting was held on December 6, 2022. The Pueblo de San Ildefonso requested an additional consultation meeting to discuss the program and potential impacts from the SPDP. The meeting with the San Ildefonso Pueblo leadership and attorneys was held on January 31, 2023.

Comments on the Final Surplus Plutonium Disposition Program EIS

NNSA posted the Final SPDP EIS on the NNSA NEPA Reading Room website (www.energy.gov/nnsa/nnsa-nepareading-room) and EPA published a NOA in the Federal Register (89 FR 3653, January 19, 2024). NNSA also published a NOA of the Final SPDP EIS in the Federal Register on January 19, 2024 (89 FR 3642). In response to these Notices, NNSA received three comment documents related to the Final SPDP EIS. NNSA considered each of the comments contained in these documents during the preparation of this ROD.

Decision

NNSA has decided to implement the Preferred Alternative, Base Approach Sub-alternative, to continue the 34 MT surplus plutonium disposition mission. This decision changes the program of record for surplus plutonium disposition from the MOX Program to the dilute and dispose strategy. NNSA will continue to dismantle surplus pits and produce plutonium oxide in the Advanced Recovery and Integrated Extraction System (ARIES) facility at LANL. Because the MOX Program has been terminated, NNSA has decided to use existing and future inventories of plutonium oxide from the ARIES facility as feedstock for the dilute and dispose strategy. NNSA does not plan to expand the ARIES footprint at this time.

Using the dilute and dispose strategy, NNSA will disassemble pits, convert pit and non-pit plutonium metal to oxide, and blend surplus plutonium in oxide form with an adulterant. The blended material will be compressed into a steel container (called the robust outer container (ROC)) for radiation control, then the ROC will be enclosed in a further container for contamination control. These ROC containers are then placed in overpacks and disposed of as defense-related CH-TRU waste underground at the WIPP facility.

This decision will require the use of existing facilities at Pantex, LANL, SRS, Y-12, and WIPP, and completion and operation of the SPD Project at SRS. Implementation will involve (1) continued transfer of surplus pits from Pantex to LANL, (2) continued operation of the existing ARIES process at LANL to oxidize pit and non-pit plutonium, until a decision on the PDP Project is made, (3) transfer of plutonium oxide from LANL to SRS, (4) continued operation of existing dilution capability and operation of the Surplus Plutonium Disposition Project at SRS to dilute plutonium oxide, transferred from LANL or currently stored at SRS, with an adulterant, (5) characterization and packaging of defense-related CH-TRU waste and transfer to WIPP, and (6) disposal in the WIPP underground.

Recently, NNSA announced a decision to replan the timeline for the Pit Disassembly and Processing (PDP) Project, delaying initiation of the PDP for approximately 10 years. Increased capacity for producing plutonium oxide, which NNSA evaluated as part of the Preferred Alternative in the SPDP EIS, will therefore be available later than originally planned, extending the timeline for the full 34 MT disposition mission. NNSA will determine whether it needs to prepare any additional NEPA analysis and complete that review prior to initiating any new facility to increase plutonium oxidation capacity.

Basis for Decision

In 2003 (Amended ROD 68 FR 20134, Apr. 24, 2003), NNSA decided to use the MOX Program to disposition 34 MT of surplus plutonium. Construction on the Mixed Oxide Fuel Fabrication Facility (MFFF) at SRS began in 2008. In 2016, NNSA, partnering with the U.S. Army Corps of Engineers, developed an independent cost estimate for the MFFF project, and concluded that the cost of the project, upon completion of construction, would be approximately $17 billion, and construction would not be complete until 2048. Congress directed NNSA to prepare a lifecycle cost estimate for disposal of surplus plutonium using the dilute and dispose strategy. The completed cost estimate indicated that the estimate-to-complete lifecycle cost of the dilute and dispose strategy would be substantially lower than the cost to complete the MOX Program. In response, the Secretary of Energy halted construction of the MFFF in May 2018 by waiving the requirement to use funds for MFFF construction as required by the National Defense Authorization Act of 2018. In a letter dated May 10, 2018, the Secretary of Energy certified “that the remaining lifecycle cost for the dilute and dispose approach will be less than approximately half of the estimated remaining lifecycle cost of the MOX fuel program.” In 2018, NNSA terminated construction of the MFFF. In 2019, the U.S. Nuclear Regulatory Commission (NRC) terminated the construction license for MFFF. With the end of the MOX project there was no longer a disposition path for the 34 MT of surplus plutonium that had been designated for disposition as MOX fuel.

The decision to use the dilute and dispose strategy for disposition of the 34 MT of surplus plutonium allows NNSA to make the maximum use of existing, proven technologies and operating facilities.

Construction of the SPD Project will continue consistent with DOE's 2016 decision (81 FR 19588). When it becomes operational, the project's three new gloveboxes for dilution will significantly increase throughput capacity. Other aspects of the SPD Program, including pit transfer from Pantex, ARIES operation at LANL, the capability to transfer plutonium oxide from LANL to SRS, dilution, assay, and shipment of resulting CH-TRU waste to WIPP for emplacement in the underground, are operational and require no upgrades or modifications to continue operations. This decision will result in continued progress toward the disposition of 34 MT of surplus plutonium while eliminating potential conflicts with ongoing construction projects and new missions within the nuclear security enterprise.

After analyzing options for expanding a PDP capability at SRS or LANL and considering the current high volume of major construction projects across the nuclear security enterprise, NNSA has decided to revisit the initiation of the PDP capital line-item project. This will result in initiation of the PDP project in the mid-2030s rather than the mid-2020s. NNSA may re-evaluate this decision as conditions change in the nuclear security enterprise. In the meantime, NNSA will continue to dismantle surplus pits and produce plutonium oxide at LANL and remains fully committed to dispositioning 34 MT of surplus plutonium.

The Surplus Plutonium Disposition line-item project execution at SRS will continue as planned and NNSA will continue to dilute and ship downblended plutonium as defense-related contact handled transuranic waste to the Waste Isolation Pilot Plant for permanent disposal. This decision will allow NNSA to focus on removal of material from South Carolina in alignment with the DOE-South Carolina Settlement Agreement.

Mitigation Measures

Operations at each facility involved in the SPD Program would result in airborne emissions of various pollutants, including radionuclides, and organic and inorganic constituents. These emissions would continue to be controlled using Best Available Control Technology to ensure that emissions are compliant with applicable standards. Impacts would be controlled by use of glovebox confinement, packaging as applicable, and confinement and air filtration systems to remove radioactive particulates before discharging process exhaust air to the atmosphere. Occupational safety risks to workers would be limited by adherence to Federal and state laws, Occupational Safety and Health Administration regulations, NNSA requirements including regulations and orders, and plans and procedures for performing work. NNSA facility operations adhere to programs to ensure the reduction of human health and safety impacts. Workers are protected from specific hazards by use of engineering and administrative controls, use of personal protective equipment, and monitoring and training. Implementation of DOE's required Radiological Protection Program limits impacts by ensuring that radiological exposures and doses to all personnel are maintained As Low As Reasonably Achievable and by providing job specific instructions to the facility workers regarding the use of personal protective equipment.

The Emergency Preparedness Program required for each site mitigates potential accident consequences by ensuring that appropriate organizations are available to respond to emergency situations and take appropriate actions to recover from accident events, while reducing the spread of contamination and protecting facility personnel and the public.

Signing Authority

This document of the Department of Energy was signed on April 3, 2024, by Jill Hruby, Under Secretary for Nuclear Security and Administrator, NNSA, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 16, 2024.
Treena V. Garrett,
Federal Register Liaison Officer, U.S. Department of Energy.

[FR Doc. 2024-08390 Filed 4-18-24; 8:45 am]

BILLING CODE 6450-01-P